DEPARTMENT OF COMMERCE

International Trade Administration

[A-570-831]

Fresh Garlic from the People's Republic of China: Extension of Time Limits for the Preliminary Results of the 11th Administrative Review and New Shipper Reviews

AGENCY: Import Administration, International Trade Administration, Department of Commerce.

EFFECTIVE DATE: June 14, 2006.

FOR FURTHER INFORMATION CONTACT: Irene Gorelik, AD/CVD Operations, Office 9, Import Administration, International Trade Administration, U.S. Department of Commerce, 14th Street and Constitution Avenue, NW, Washington DC 20230; telephone: (202) 482-6905.

SUPPLEMENTARY INFORMATION:

Background

On December 22, 2005, the Department published a notice of initiation of a review of fresh garlic from the People's Republic of China (“PRC”), covering the period November 1, 2004, through October 31, 2005. See Initiation of Antidumping and Countervailing Duty Administrative Reviews and Requests for Revocation in Part, 70 FR 76024 (December 22, 2005). On December 28, 2005, the Department published a notice of initiation of new shipper reviews of fresh garlic from the PRC covering the period November 1, 2004, through October 31, 2005. See Fresh Garlic from the People's Republic of China: Initiation of New Shipper Reviews, 70 FR 76765 (December 28, 2005).

On April 28, 2006, the Department aligned the statutory time lines of the 11th administrative review and all but one of the new shipper reviews.¹ Qingdao Xintianfeng Foods Company Ltd. (“QXF”), a respondent in one of the new shipper reviews, did not agree to waive the new shipper time limits.

¹ See the Department's letter dated April 28, 2006.

Extension of Time Limit of Preliminary Results

The Department determines that completion of the preliminary results of these reviews within the statutory time period is not practicable. The 11th administrative review covers nine companies, and to conduct the sales and factor analyses for each requires the Department to gather and analyze a significant amount of information pertaining to each company's sales practices and manufacturing methods. The five new shipper reviews, including that of QXF, involve extraordinarily complicated methodological issues such as the use of intermediate input methodology, potential affiliation issues and the examination of importer information. The Department requires additional time to analyze these issues.

Therefore, given the number and complexity of issues in this case, and in accordance with section 751(a)(3)(A) of the Act, we are extending the time period for issuing the preliminary results of review by 61 days until October 2, 2006. The final results continue to be due 120 days after the publication of the preliminary results. Regarding QXF, in accordance with section 351.214(h)(i)(1) of the Department's regulations and section 751(a)(2)(B)(iv) of the Act, we are extending the time period for issuing the preliminary results of review by 106 days until October 2, 2006. The final results continue to be due 90 days after the publication of the preliminary results.

This notice is published pursuant to sections 751(c)(3)(A) and 751(a)(2)(B)(iv) of the Act, and 19 CFR 351.214(h)(i)(1).

June 2, 2006.
Stephen J. Claeys,
Deputy Assistant Secretary for Import Administration.

[FR Doc. E6-9223 Filed 6-13-06; 8:45 am]

BILLING CODE 3510-DS-S